DEPARTMENT OF ENERGY

Federal Energy Regulatory Commission

Combined Notice of Filings #2

Take notice that the Commission received the following electric rate filings:

Docket Numbers: ER23-1874-002.

Applicants: PJM Interconnection, L.L.C.

Description: Compliance filing: Compliance on Black Start Service Revisions to Enhance Fuel Assurance to be effective 7/12/2023.

Filed Date: 11/6/23.

Accession Number: 20231106-5113.

Comment Date: 5 p.m. ET 11/27/23.

Docket Numbers: ER23-2809-001.

Applicants: The Dayton Power and Light Company, PJM Interconnection, L.L.C.

Description: Tariff Amendment: The Dayton Power and Light Company submits tariff filing per 35.17(b): Amendment to DP&L's Depreciation Rate Revisions in ER23-2809 to be effective 1/1/2023.

Filed Date: 11/6/23.

Accession Number: 20231106-5107.

Comment Date: 5 p.m. ET 11/27/23.

Docket Numbers: ER24-349-000.

Applicants: Northern States Power Company, a Minnesota corporation.

Description: § 205(d) Rate Filing: 2023-11-06 GRE SISA—Slayton Sub—746 to be effective 11/7/2023.

Filed Date: 11/6/23.

Accession Number: 20231106-5072.

Comment Date: 5 p.m. ET 11/27/23.

Docket Numbers: ER24-350-000.

Applicants: Sagebrush Line, LLC.

Description: § 205(d) Rate Filing: Facilities Use Agreement to be effective 1/1/2024.

Filed Date: 11/6/23.

Accession Number: 20231106-5086.

Comment Date: 5 p.m. ET 11/27/23.

Docket Numbers: ER24-351-000.

Applicants: AEP Texas Inc.

Description: § 205(d) Rate Filing: AEPTX—Electra Energy Project LLC 1st A&R Generation Interconnection Agreement to be effective 10/11/2023.

Filed Date: 11/6/23.

Accession Number: 20231106-5115.

Comment Date: 5 p.m. ET 11/27/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 6, 2023..
Debbie-Anne A. Reese,
Deputy Secretary.

[FR Doc. 2023-24914 Filed 11-9-23; 8:45 am]

BILLING CODE 6717-01-P